FEDERAL COMMUNICATIONS COMMISSION

47 CFR Part 73

[DA 02-1248; MB Docket No. 02-118; RM-10394]

Radio Broadcasting Services; Ridgway, Rangley, CO

AGENCY: Federal Communications Commission.

ACTION: Proposed rule.

SUMMARY: This document requests comments on the proposed substitution of Channel 279C1 for Channel 279C2 at Ridgway, Colorado, and the modification of Station KBNG's authorization accordingly, and the substitution of Channel 257C1 for vacant Channel 279C1 at Rangely, Colorado, to accommodate its upgrade filed on behalf of Idaho Broadcasting Consortium. Channel 279C1 can be allotted at Ridgway at petitioner's requested site 11.9 kilometers (7.4 miles) north of the community. Additionally, Channel 257C1 can be allotted at Rangely at petitioner's suggested site 5.0 kilometers (3.1 miles) northwest of the community. The coordinates for Channel 279C1 at Ridgway are 38-15-26 NL and 107-46-54 WL. The coordinates for Channel 257C1 are 40-7-12 NL and 108-50-29 WL.

DATES: Comments must be filed on or before July 15, 2002, and reply comments on or before July 30, 2002.

ADDRESSES: Secretary, Federal Communications Commission, Washington, DC 20554. In addition to filing comments with the FCC, interested parties should serve the petitioner, as follows: Lee W. Shubert Katten Muchin Zavis Rosenman, 1025 Thomas Jefferson Street, NW., East Lobby, Suite 700 Washington, DC, 20007-5201.

FOR FURTHER INFORMATION CONTACT: Victoria M. McCauley, Media Bureau, (202) 418-2180.

SUPPLEMENTARY INFORMATION: This is a synopsis of the Commission's Notice of Proposed Rule Making, MB Docket No. 02-118, adopted May 15, 2002, and released May 24, 2002. The full text of this Commission decision is available for inspection and copying during normal business hours in the FCC's Reference Information Center at Portals II, CY-A257, 445 Twelfth Street, SW., Washington, DC. This document may also be purchased from the Commission's duplicating contractors, Qualex International, Portals II, 445 12th Street, SW, Room CY-B402, Washington, DC 20554, telephone 202-863-2893, or via e-mail: qualexint@aol.com.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by removing Channel 279C2 and adding 279C1 at Ridgway, and by removing Channel 279C1 and adding Channel 257C1 at Rangely.

Federal Communications Commission.
John A. Karousos,
Assistant Chief, Audio Division, Office of Broadcast License Policy, Media Bureau.

[FR Doc. 02-14673 Filed 6-10-02; 8:45 am]

BILLING CODE 6712-01-P